SOCIAL SECURITY ADMINISTRATION

[Docket No. SSA-2012-0071]

Social Security Ruling, SSR 13-1p; Titles II and XVI: Agency Processes for Addressing Allegations of Unfairness, Prejudice, Partiality, Bias, Misconduct, or Discrimination by Administrative Law Judges (ALJs); Correction

AGENCY: Social Security Administration.

ACTION: Notice of Social Security Ruling; Correction.

SUMMARY: The Social Security Administration published a document in the Federal Register of January 29, 2013, in FR Doc. 2013-01833, on page 6171, in the third column, the last line of the document change “30 days” to “60 days”.

Paul Kryglik,
Director, Office of Regulations, Social Security Administration.

[FR Doc. 2013-08804 Filed 4-12-13; 8:45 am]

BILLING CODE 4191-02-P